Title 3—

The President

Executive Order 13325 of January 23, 2004

Amendment to Executive Order 12293, the Foreign Service of the United States

By the authority vested in me as President by the Constitution and the laws of the United States of America, including the Foreign Service Act of 1980, as amended, and in order to adjust the basic salary rates for each class of the Senior Foreign Service in light of the changes made to the manner in which members of the Senior Executive Service will be paid pursuant to the National Defense Authorization Act for Fiscal Year 2004 (Public Law 108-136), it is hereby ordered as follows:

Section 1. Section 4 of Executive Order 12293 of February 23, 1981, as amended, is amended to read as follows:

“Sec. 4. (a) In accord with Section 402 of the Act (22 U.S.C. 3962), there are established the following salary classes with titles for the Senior Foreign Service, at the following ranges of basic rates of pay.

(1)

Career Minister

Range from 94 percent of the rate payable to level III of the Executive Schedule to 100 percent of the rate payable to level III of the Executive Schedule.

(2)

Minister-Counselor

Range from 90 percent of the rate payable to level III of the Executive Schedule to 100 percent of the rate payable to level III of the Executive Schedule.

(3)

Counselor

Range from 120 percent of the rate payable to GS-15/Step 1 to 100 percent of rate payable to level III of the Executive Schedule.

(b) Upon conversion to a rate of basic pay within the range of rates established for the applicable salary class by this section as of the first day of the first applicable pay period beginning on or after January 1, 2004, a member of the Senior Foreign Service shall receive the rate of basic pay to which he or she was entitled immediately before that date, including any locality-based comparability payment authorized under 5 U.S.C. 5304(h)(2)(C) that the member was receiving immediately before that date. On the same date, or on a later date specified by the Secretary of State (or the heads of the other agencies that utilize the Foreign Service personnel system (collectively the “Secretary”)), the Secretary may increase the member's rate of basic pay upon a determination that the member's performance or contribution to the mission of the agency so warrant and that the member is otherwise eligible for such a pay adjustment under Section 402 of the Foreign Service Act.”

Sec. 2. Effective Date. The salary rates contained herein are effective on the first day of the first applicable pay period beginning on or after January 1, 2004.

B

THE WHITE HOUSE,

January 23, 2004.

[FR Doc. 04-1941

Filed 1-27-04; 8:45 am]

Billing code 3195-01-P